DEPARTMENT OF HEALTH AND HUMAN SERVICES

Administration for Children and Families

Proposed Information Collection Activity; Child Abuse and Neglect Background Checks for Child Care and Early Education Project (New Collection)

AGENCY: Office of Planning, Research, and Evaluation, Administration for Children and Families, Department of Health and Human Services.

ACTION: Request for public comments.

SUMMARY: The Office of Planning, Research, and Evaluation (OPRE), Administration for Children and Families (ACF) is proposing an information collection activity for the Child Abuse and Neglect Background Checks for Child Care and Early Education (CAN Checks for CCEE) Project. The goal of the project is to better understand how states and territories use findings from CAN registry checks, as required by the Child Care and Development Block Grant Act of 2014 (CCDBG), to make child care employment eligibility determinations. The study will also be used to understand state and territory variation, facilitators, and challenges in implementing CAN registries; and any resulting within- or across-state/territory equity implications.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. All requests should be identified by the title of the information collection.

SUPPLEMENTARY INFORMATION:

Description: The proposed information collections for the CAN Checks for CCEE Project is designed to explore how states and territories implement CAN background checks for child care employment eligibility decisions. While the CCDBG Act of 2014 clearly describes procedures and exclusionary criteria pertaining to the use of criminal and sexual offender background checks to inform child care employment eligibility decisions, requirements for the use of CAN background checks are less clear. The findings will be of interest to ACF, and in particular to OPRE and the Office of Child Care, who are interested in the effective and equitable implementation of CAN registry background checks of prospective and current child care staff. Findings will also be of interest to Child Care and Development Fund (CCDF) state/territory lead agencies that oversee the CCDF program in their states/territories and the state/territory offices that oversee early care and education. The results of this study also have implications for child care programs and staff. Further, given the U.S. Congress' interest in prior exploratory work on this topic, it may be informative for federal lawmakers, as well.

CCDF lead agency staff and CAN registry custodians that participate in this information collection will be asked to complete a voluntary, one-time web-based survey. The survey for CCDF lead agency staff will focus on the practices and policies related both to in-state/territory and interstate CAN registry checks, including what data they request and receive, as well as how they use it in making child care employment eligibility decisions. The survey for CAN registry custodians will focus on the contents of CAN registries, policies around inclusion in/expunction from the registries, and policies regarding sharing data.

Approximately half of CCDF lead agency survey respondents (up to 28) will be invited to participate in voluntary follow-up interviews. This open-ended data collection format will allow for exploration of key themes that emerge from the surveys; facilitators and barriers in, and respondent recommendations around, implementing the CAN registry checks; how practice may vary from policy; and, in some cases, to obtain answers to questions not answered in the survey.

Respondents: Each state, territory, and the District of Columbia will be invited to complete two web-based surveys: one CCDF lead agency survey and one CAN registry custodian survey. Given that each agency may have multiple staff members with relevant knowledge of different survey topics and no one staff member may possess all of the knowledge to complete the survey, we are allowing for up to 3 respondents per state/territory for the CCDF lead agency staff and 2 respondents per state/territory for the CAN registry custodian surveys (up to 280 total individuals). Once survey administration is complete, one CCDF lead agency staff person from half of the states, territories, and the District of Columbia (up to 28) will be invited to participate in a follow-up interview. For the interviews, we will select a sample of CCDF lead agency staff that represents diversity across state and territory approaches toward the CAN registry background checks.

Annual Burden Estimates
Instrument | Number of respondents (total over request period) | Number of responses per respondent (total over request period) | Avg. burden per response (in hours) | Total/annual burden (in hours)
Instrument 1: CCDF Lead Agency Survey | 168 | 1 | * 0.75 | 126
Instrument 2: CAN Custodian Survey | 112 | 1 | * 0.75 | 84
Instrument 3: CCDF Lead Agency Interview | 28 | 1 | 1.50 | 42
Estimated Total Annual Burden Hours: |  |  |  | 252
* Note that this is the estimated time to complete the full survey, which could be completed by one individual or multiple individuals. Surveys completed by multiple individuals will take less time for each individual to provide a response.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Research funding set-aside authorized by the CCDBG Act of 2014 and funded by CCDF. Section 658O(a)(5) of CCDBG (as codified at 42 U.S.C. 9857 et seq.) grants the Secretary of the U.S. Department of Health and Human Services the authority to reserve up to ½ percent of the total Discretionary and Mandatory CCDF funding “to conduct research and demonstration activities, as well as periodic external, independent evaluations of the impact of the program described by this subchapter on increasing access to child care services and improving the safety and quality of child care services, using scientifically valid research methodologies, and to disseminate the key findings of those evaluations widely and on a timely basis.”

Mary B. Jones,
ACF/OPRE Certifying Officer.

[FR Doc. 2023-17435 Filed 8-14-23; 8:45 am]

BILLING CODE 4184-23-P